DEPARTMENT OF THE INTERIOR

Fish and Wildlife Service

[FWS-R8-ES-2011-N005; 1112-0000-81440-F2]

Endangered and Threatened Wildlife and Plants; Permits, Town of Apple Valley, San Bernardino County, CA; Notice of Intent

AGENCY: Fish and Wildlife Service, Interior.

ACTION: Notice of intent; announcement of a public scoping meeting; request for comments.

SUMMARY: We, the U.S. Fish and Wildlife Service (Service), intend to prepare either an Environmental Impact Statement (EIS) or an Environmental Assessment (EA) under the National Environmental Policy Act (NEPA) regarding an expected application from the Town of Apple Valley, CA, for an incidental take permit (ITP) under the Endangered Species Act of 1973 (Act), as amended. The decision to prepare an EIS or EA will be, in part, contingent upon the complexity of issues identified during and following the scoping phase of the NEPA process. We are furnishing this notice to announce the initiation of a public scoping period, during which we invite other agencies, Tribes, and the public to submit written comments providing suggestions and information on the scope of issues and alternatives to be addressed in the EIS or EA.

DATES: Please send written comments on or before April 22, 2011. We will hold a public scoping meeting Thursday, April 7, from 5:30 p.m. to 7:30 p.m. For the public meeting address, see “Meeting,” below.

ADDRESSES: Comments: Send your comments to Diane Noda, Field Supervisor, Ventura Fish and Wildlife Office, U.S. Fish and Wildlife Service, 2493 Portola Road, Suite B, Ventura, CA 93003. You may alternatively send comments by facsimile to (805) 644-3958.

Meeting: We will hold a public meeting in the Town Hall Council Chambers, 14955 Dale Evans Parkway, Apple Valley, CA 92307.

FOR FURTHER INFORMATION CONTACT: Jen Lechuga, HCP Coordinator (see ADDRESSES), telephone: (805) 644-1766, extension 224.

SUPPLEMENTARY INFORMATION:

Reasonable Accommodations

Persons needing reasonable accommodations in order to attend and participate in the public meeting should contact the Service at the address above no later than 1 week before the public meeting. Information regarding this proposed action is available in alternative formats upon request.

Background

In accordance with section 10(a)(2)(A) of the Endangered Species Act of 1973, as amended (ESA; 16 U.S.C. 1531 et seq.), the Town of Apple Valley, CA (Town) is preparing a MSHCP in support of an application for a permit from the Service to incidentally take listed species. Section 9 of the Act (16 U.S.C. 1538) and the implementing regulations prohibit the take of animal species listed as endangered or threatened. The term “take” is defined under the ESA (16 U.S.C. 1532) as to harass, harm, pursue, hunt, shoot, wound, kill, trap, capture, or collect or attempt to engage in such conduct. “Harm” is defined by Service regulation (50 CFR 17.3) to include significant habitat modification or degradation where it actually kills or injures wildlife by significantly impairing essential behavior patterns, including breeding, feeding, or sheltering. For certain circumstances, under Section 10(a)(1)(B) of the ESA we may issue permits to authorize “incidental take” of listed species. “Incidental take” is defined by the ESA as take that is incidental to, and not the purpose of, carry out an otherwise lawful activity. Regulations governing permits for threatened and endangered species are found in the Code of Federal Regulations at 50 CFR 17.32 and 50 CFR 17. 22, respectively. If the permit is issued, the Town would receive assurances for all species included on the incidental take permit under the Service's “No Surprises” regulations (50 CFR 17.22 (b)(5) and 17.32 (b)(5)).

Section 10 of the ESA specifies the requirements for the issuance of incidental take permits to non-Federal entities. Any proposed take must be incidental to otherwise lawful activities and cannot appreciably reduce the likelihood of the survival and recovery of the species in the wild. The impacts of such take must also be minimized and mitigated to the maximum extent practicable. To obtain an incidental take permit, an applicant must prepare a habitat conservation plan describing the impact that would likely result from the proposed taking, the measures for minimizing and mitigating the take, the funding available to implement such measures, alternatives to the taking, and the reason why such alternatives are not be implemented.

The Applicant is requesting a renewable 30-year permit to incidentally take listed species as a potential result of urban and rural development on approximately 60,500 to 65,300 acres within the Town and its sphere of influence (SOI) (i.e., the probable extent of the physical boundaries and service area of a local governmental agency), which totals approximately 170,000 acres. Of the areas affected, approximately 23,000 to 27,800 acres of development would occur within the Town under the Applicant's General Plan, and approximately 37,500 acres of development would occur within the Town's SOI under San Bernardino County's General Plan. The General Plans are State-mandated plans; each provides a statement of development policies, including diagrams and text that set forth objectives, standards, and plan proposals.

Proposed covered activities would include low-density development (one home per 5 or more acres); mixed-use development (integrating residential, retail, and commercial uses); and industrial development; as well as development of public facilities, mineral resources, street rights of way, and open spaces. The proposed land uses provide for the development of approximately 60,900 housing units within the Town and approximately 21,500 housing units within the SOI, for a total of approximately 82,000 housing units. Potential development also includes: approximately 51.7 and 5.5 million square feet of commercial space in the Town and SOI, respectively; and approximately 58.6 and 53.9 million square feet of industrial space in the Town and SOI, respectively. Covered activities would also include the operation and maintenance of all existing public facilities (approximately 3,200 acres of the ground-disturbance total); all capital improvements of existing and future facilities and roads; construction of new public facilities (approximately 1,400 acres of the ground-disturbance total); and construction, operation, and maintenance of renewable energy projects, including solar energy projects covering up to 5,000 acres, and small-scale wind energy projects.

At present, the applicant is proposing to address seven State and/or Federally listed species and one sensitive species in the MSHCP for coverage under the ITP (See Table 1, below). The list of species proposed to be covered in the MSHCP may be modified to include additional threatened or endangered species, and species that may become listed as endangered or threatened during the life of the permit that occur within the project area and may be affected by the covered activities.

The proposed MSHCP will identify actions necessary to conserve the covered species. The proposed minimization measures include incentives for infill development in previously developed/disturbed areas, and measures to control predators of covered species that include reducing access to residential and commercial waste. Proposed mitigation would conserve approximately 75,000 acres of public and private lands through various mechanisms, including purchase of land in fee title and establishment of permanent conservation easements. The Applicant also is considering establishing a non-wasting endowment (where the conservation actions are funded by the interest earned, not the principal) to fund conservation actions on conserved lands in the Desert Wildlife Management Areas.

Table 1—Species Proposed for Inclusion in the Town of Apple Valley's MSHCP
Common name | Scientific name | Federal status | State status
Birds
Burrowing owl | Athene cunicularia | None | State Species of Concern (SSC).
Least Bell's vireo | Vireo bellii pusillus | Endangered | Endangered.
Southwestern willow flycatcher | Empidonax traillii extimus | Endangered | Endangered.
Swainson's hawk | Buteo swainsoni | None | Threatened.
Western yellow-billed cuckoo | Coccyzus americanus occidentalis | Candidate | Endangered.
Mammals
Mohave ground squirrel | Xerospermophilus mohavensis | Under Review | Threatened.
Reptiles
Desert tortoise | Gopherus agassizii | Threatened | Threatened.
Fish
Mohave tui chub | Siphatales bicolor mohavensis | Endangered | Endangered.

The Applicant, in cooperation with the California Department of Fish and Game (CDFG) and the Service, will develop the MSHCP such that it also meets the State's requirements for a Natural Community Conservation Plan (NCCP). The Applicant will likewise serve as the lead agency for the Environmental Impact Report (EIR), pursuant to Section 15168 of the California Environmental Quality Act (CEQA) Guidelines. Compliance with NEPA and CEQA may be done concurrently in a joint EIS/EIR or EA/Negative Declaration.

Environmental Impact Statement or Environmental Assessment

The EIS or EA will consider the proposed action (issuance of an ITP based on the MSHCP), a no-action alternative (a scenario where there would be no issuance of an ITP and no take of listed species), and a reasonable range of alternatives that fit within the purpose and need of the Service. The general purpose and need of the Service for the proposed action is to respond to an ITP application and to protect, conserve, and enhance fish and wildlife and their habitats for the continuing benefit of the people of California and the United States. A detailed description of the proposed action and alternatives will be included in the EIS or EA. The alternatives for analysis in the document may include, but not be limited to, variations in the covered activities and the footprint of development within the 170,000-acre planning area. It will also identify potentially significant impacts on biological resources, land use, air quality, cultural resources, water resources, socioeconomics, and other resources in the human environment that may occur directly, indirectly, and/or cumulatively as a result of implementing the proposed action or any of the alternatives. Various strategies for avoiding, minimizing, and mitigating the impacts of incidental take also will be considered.

The Service is furnishing this notice in accordance with 40 CFR 1501.7 and 1508.22 to obtain suggestions and information from other agencies and the public on the scope of issues and alternatives they believe need to be addressed in the EIS or EA. The primary purpose of the scoping process is to identify important issues raised by the public related to the proposed action. Written comments from interested parties are requested to ensure that the full range of issues related to the proposed action is identified. Comments will only be accepted in written form.

Request for Public Comments

We seek comments concerning (i) The eight species proposed for inclusion in the applicant's proposed multispecies habitat conservation plan (MSHCP), including information regarding their ranges, distribution areas, population sizes and population trends; (ii) relevant data concerning the impacts of the proposed development on these species; (iii) any other environmental issues that should be considered with regard to the proposed development and permit action; and (iv) the range of alternatives to be included in the EIS or EA.

Public Comments

Please direct any comments to the Service contact listed above in the ADDRESSES section, and any questions to the Service contact listed in the FOR FURTHER INFORMATION CONTACT section. All comments and materials we receive, including names and addresses, will become part of the administrative record and may be released to the public. Before including your address, phone number, e-mail address, or other personal identifying information in your comment, you should be aware that your entire comment—including your personal identifying information—may be made publicly available at any time. While you can ask us in your comment to withhold your personal identifying information from public review, we cannot guarantee that we will be able to do so.

Authority

We provide this notice under section 10(c) of the Act (16 U.S.C. 1531 et seq.) and NEPA regulations (40 CFR 1506.6).

Dated: March 17, 2011.
Alexandra Pitts,
Deputy Regional Director, Pacific Southwest Region,Sacramento, CA.

[FR Doc. 2011-6820 Filed 3-22-11; 8:45 am]

BILLING CODE 4310-55-P